DEPARTMENT OF DEFENSE

Department of the Army, Corps of Engineers

33 CFR Part 334

United States Navy Restricted Area, Naval Support Activity, Panama City, FL

AGENCY: U.S. Army Corps of Engineers, DoD.

ACTION: Correcting amendments.

SUMMARY: The U.S. Army Corps of Engineers (Corps) published a document in the Federal Register on September 12, 2008 (73 FR 52926), revising the restricted areas at Naval Support Activity (NSA), Panama City (PC), Florida. The latitude of the shared point for the southeast point of restricted area BA-1 (Sec. 334.761(a)(2)) and the southwest point of restricted area BA-2 (Sec. 334.761(a)(3)) should have been provided as 30°10′32″ N. This document corrects the final regulation by revising these actions.

DATES: Effective date: March 18, 2009.

FOR FURTHER INFORMATION CONTACT: Mr. David Olson, Headquarters, Operations and Regulatory Community of Practice, Washington, DC at 202-761-4922 or Mr. Jon Griffin, U.S. Army Corps of Engineers, Jacksonville District, Regulatory Division at 904-232-1680.

SUPPLEMENTARY INFORMATION: On September 12, 2008, (73 FR 52926) the Corps published a final rule establishing ten restricted areas at Naval Support Activity (NSA), Panama City (PC), Florida. In that final rule, the shared point at the southeast point of Area BA-1 (§ 334.761(a)(2)) and the southwest point of Area BA-2 (§ 334.761(a)(3)) overlap a portion of Area BA-3 (§ 334.761(a)(4)) by one second. To correct this error, the southeast point of Area BA-1 and the southwest point of Area BA-2 are changed to 30°10′32″ N, with no change in the longitudinal value.

List of Subjects in 33 CFR Part 334

Danger zones, Navigation (water), Restricted areas, Waterways.

Accordingly, 33 CFR part 334 is amended by making the following correcting amendments:

PART 334—DANGER ZONE AND RESTRICTED AREA REGULATIONS

1. The authority citation for part 334 continues to read as follows:

Authority: 40 Stat. 266 (33 U.S.C. 1) and 40 Stat. 892 (33 U.S.C. 3).

2. In § 334.761, revise paragraphs (a)(2) and (a)(3) to read as follows:

§ 334.761 Naval Support Activity Panama City; St. Andrews Bay; restricted areas.

* * * * *

(a) * * *

(2) Area BA-1. The area is bounded by a line directly connecting the following coordinates (listed by latitude, then longitude): Northwest point—30°11′14″ N, 085°44′59″ W; Northeast point—30°11′13″ N, 085°44′32″ W; Southeast point—30°10′32″ N, 085°44′32″ W; Southwest point—30°10′32″ N, 085°44′59″ W, then northerly to point of origin.

(3) Area BA-2. The area is bounded by a line directly connecting the following coordinates (listed by latitude, then longitude): Northwest point—30°11′13″ N, 085°44′32″ W; Northeast point—30°11′07″ N, 085°44′01″ W; Southeast point—30°10′32″ N, 085°44′00″ W; Southwest point—30°10′32″ N, 085°44′32″ W, then northerly to point of origin.

* * * * *

Dated: March 9, 2009.
Michael Ensch,
Chief, Operations, Directorate of Civil Works.

[FR Doc. E9-5748 Filed 3-17-09; 8:45 am]

BILLING CODE 3710-92-P